MORRIS K. UDALL SCHOLARSHIP AND EXCELLENCE IN NATIONAL ENVIRONMENTAL POLICY FOUNDATION

Notice of Federal Advisory Committee Meeting

AGENCY: U.S. Institute for Environmental Conflict Resolution, Morris K. Udall Foundation.

ACTION: Notice of meeting.

Authority: 5 U.S.C. Appendix; 20 U.S.C. 5601-5609.

SUMMARY: The National Environmental Conflict Resolution (ECR) Advisory Committee, of the U.S. Institute for Environmental Conflict Resolution, will meet by teleconference on Wednesday, September 15, 2004. The call will occur from 2 p.m. to approximately 4 p.m. eastern daylight time. Members of the public may participate in the call by dialing 1-800-930-9002 and entering a passcode: 8072291.

During this teleconference, the Committee will discuss: the Committee's first draft report, next steps for the Committee and planning for future Committee work. The report of approved recommendations by the Committee can be viewed at http://www.ecr.gov/necrac/reports.htm.

Members of the public may make oral comments on the teleconference or submit written comments. In general, each individual or group making an oral presentation will be limited to five minutes, and total oral comment time will be limited to one-half hour at the end of the call.

Written comments may be submitted by mail or by e-mail to gargus@ecr.gov. Written comments received in the U.S. Institute office far enough in advance of a meeting may be provided to the Committee prior to the meeting; comments received too near the meeting date to allow for distribution will normally be provided to the Committee at the meeting. Comments submitted during or after the meeting will be accepted but may not be provided to the Committee until after that meeting.

FOR FURTHER INFORMATION CONTACT: Any member of the public who desires further information concerning the teleconference or wishes to submit oral or written comments should contact Tina Gargus, Special Projects Coordinator, U.S. Institute for Environmental Conflict Resolution, 130 S. Scott Avenue, Tucson, AZ 85701; phone (520) 670-5299, fax (520) 670-5530, or e-mail at gargus@ecr.gov. Requests to make oral comments must be in writing (or by e-mail) to Ms. Gargus and be received no later than 5 p.m. mountain standard time on Friday, September 10, 2004. Copies of the draft meeting agenda may be obtained from Ms. Gargus at the address, phone and e-mail address listed above.

Dated: August 31, 2004.
Christopher L. Helms,
Executive Director, Morris K. Udall Scholarship and Excellence in National Environmental Policy Foundation, and Federal Register Liaison Officer.

[FR Doc. 04-20203 Filed 9-3-04; 8:45 am]

BILLING CODE 6820-FN-P